FEDERAL COMMUNICATIONS COMMISSION

[FRS 17000]

Radio Broadcasting Services; AM or FM Proposals To Change the Community of License

AGENCY: Federal Communications Commission.

ACTION: Notice.

DATES: The agency must receive comments on or before October 20, 2020.

ADDRESSES: Federal Communications Commission, 445 12th Street SW, Washington, DC 20554.

FOR FURTHER INFORMATION CONTACT: Rolanda F. Smith, 202-418-2054.

SUPPLEMENTARY INFORMATION: The following applicants filed AM or FM proposals to change the community of license: GERARD MEDIA, LLC, WHFB(AM), Fac. ID No. 72174, From BENTON HARBOR-ST. JO, MI, File No. BP-20200715AAH; GEORGIA-CAROLINA RADIOCASTING COMPANY, LLC, WHTD(AM), Fac. ID No. 54562, From ELBERTON, GA, To COLBERT, GA, File No. BP-20200728AAE; KMSR, INC., KMSR(AM), Fac. ID No. 54336, From MAYVILLE, ND, To NORTHWOOD, ND, File No. BP-20200615AAN; LAKE HARTWELL RADIO, INC., WYPJ(FM), Fac. ID No. 166080, From DUE WEST, SC, To BOWMAN, GA, File No. 0000117873; RADIO TRAINING NETWORK, INC, WAHP(FM), Fac. ID No. 67212, From BELTON, SC, To DUE WEST, SC, File No. 0000117827; and MILESTONE RADIO II LLC, KBGY(FM), Fac. ID No. 84475, From FARIBAULT, MN, To ELKO NEW MARKET, MN, File No. 0000116370 . The full text of these applications is available electronically via the Media Bureau's Consolidated Data Base System, https://licensing.fcc.gov/prod/cdbs/pubacc/prod/app_sear.htm or Licensing and Management System (LMS), https://apps2int.fcc.gov/dataentry/public/tv/publicAppSearch.html.

Federal Communications Commission.
Nazifa Sawez,
Assistant Chief, Audio Division, Media Bureau.

[FR Doc. 2020-18376 Filed 8-20-20; 8:45 am]

BILLING CODE 6712-01-P